COMMISSION ON CIVIL RIGHTS

Agenda and Notice of Public Meeting of the New Hampshire Advisory Committee

AGENCY: Commission on Civil Rights.

ACTION: Announcement of public meeting.

SUMMARY: Notice is hereby given, pursuant to the provisions of the rules and regulations of the U.S. Commission on Civil Rights (Commission), and the Federal Advisory Committee Act (FACA), that the New Hampshire State Advisory Committee to the Commission will convene a meeting on Monday, November 16, 2020 at 4 p.m. (EDT). The purpose of the meeting is to discuss testimony heard related to its project on solitary confinement in New Hampshire.

DATES: Monday, November 16, 2020 from 4 p.m.-5:30 p.m. (EDT).

Public Call-In Information: Conference call-in number: 1-800-437-2398; Conference ID: 5226726

FOR FURTHER INFORMATION CONTACT: Mallory Trachtenberg at mtrachtenberg@usccr.gov or by phone at (202) 809-9618.

SUPPLEMENTARY INFORMATION: These meetings are available to the public through the telephone number and conference ID listed above. Callers can expect to incur charges for calls they initiate over wireless lines, and the Commission will not refund any incurred charges. Individuals who are deaf, deafblind and hard of hearing. may also follow the proceedings by first calling the Federal Relay Service at 1-800-877-8339 and providing the Service with the conference call-in numbers: 1-800-437-2398; Conference ID: 5226726.

Members of the public are entitled to make comments during the open period at the end of each meeting. Members of the public may also submit written comments; the comments must be received in the Regional Programs Unit within 30 days following the respective meeting. Written comments may be emailed to Mallory Trachtenberg at mtrachtenberg@usccr.gov. Persons who desire additional information may contact the Regional Programs Unit at (202) 809-9618. Records and documents discussed during the meeting will be available for public viewing as they become available at the FACA Link; click the “Meeting Details” and “Documents” links. Records generated from this meeting may also be inspected and reproduced at the Midwestern Regional Office, as they become available, both before and after the meetings. Persons interested in the work of this advisory committee are advised to go to the Commission's website, www.usccr.gov, or to contact the Regional Programs Unit at the above phone number or email address.

Agenda: Monday November 16, 2020 from 4:00 p.m.-5:30 p.m. (EDT)

I. Welcome and Roll Call

II. Announcements and Updates

III. Approval of Minutes

IV. Discussion: Solitary Confinement in New Hampshire

V. Public Comment

VI. Next Steps

VII. Adjournment

Dated: October 5, 2020.
David Mussatt,
Supervisory Chief, Regional Programs Unit.

[FR Doc. 2020-22358 Filed 10-8-20; 8:45 am]

BILLING CODE P